DEPARTMENT OF COMMERCE

National Oceanic and Atmospheric Administration

RIN 0648-XE378

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Ecosystem and Ocean Planning Committee will hold a public meeting.

DATES: The meeting will be held on Friday, January 22, 2016, from 9:30 a.m. to 4:30 p.m. For agenda details, see SUPPLEMENTARY INFORMATION.

ADDRESSES: The meeting will be held at the Double Tree by Hilton Baltimore-BWI Airport, 890 Elkridge Landing Road, Linthicum, Maryland, 21090; telephone: (410) 859-8400.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The MAFMC's Ecosystem and Ocean Planning Committee will meet to discuss the Council's Unmanaged Forage Omnibus Amendment. The Committee will develop recommendations for the full Council to consider at their February 2016 meeting. This amendment will prohibit the development of new, or expansion of existing, directed fisheries on unmanaged forage species in Mid-Atlantic Federal waters until adequate scientific information is available to promote ecosystem sustainability. The Committee will consider advice from the Unmanaged Forage Fishery Management Action Team and recommendations from the Ecosystem and Ocean Planning Advisory Panel before developing recommendations for a draft list of unmanaged forage species to include in the amendment. The Committee will also discuss and may develop recommendations for a draft range of alternatives for analysis, a draft purpose and need statement as required by the National Environmental Policy Act, and other aspects of the amendment. A detailed agenda will be posted to www.mamfc.org.

Special Accommodations

The meeting is physically accessible to people with disabilities. Requests for sign language interpretation or other auxiliary aid should be directed to M. Jan Saunders, (302) 526-5251, at least 5 days prior to the meeting date.

Dated: December 29, 2015.
Jeffrey N. Lonergan,
Acting Deputy Director, Office of Sustainable Fisheries, National Marine Fisheries Service.

[FR Doc. 2015-33045 Filed 12-31-15; 8:45 am]

BILLING CODE 3510-22-P